DEPARTMENT OF ENERGY

Federal Energy Regulatory Commission

Notice of Intent to Prepare Environmental Assessments and Revised Procedural Schedule

FFP Missouri 16, LLC | Project No. 13753-002
FFP Missouri 15, LLC | Project No. 13762-002
Solia 8 Hydroelectric, LLC | Project No. 13771-002
FFP Missouri 13, LLC | Project No. 13763-002
Solia 5 Hydroelectric, LLC | Project No. 13766-002
Solia 4 Hydroelectric, LLC | Project No. 13767-002
FFP Missouri 12, LLC | Project No. 13755-002
FFP Missouri 5, LLC | Project No. 13757-002
FFP Missouri 6, LLC | Project No. 13761-002
Solia 6 Hydroelectric, LLC | Project No. 13768-002

On February 3, 2014, February 27, 2014, and March 14, 2014, FFP New Hydro, LLC and its subsidiary companies filed a total of ten applications for the construction and operation of hydropower projects to be located at the U.S. Army Corps of Engineers' (Corps') existing dams on the Allegheny River (one project), Monongahela River (six projects), and Ohio River (three projects), respectively. The names and locations of the applicants' projects are as follows:

Applicant | Project No. | Projects | Capacity (MW) * | County, State & river basin
FFP Missouri 16, LLC | P-13753 | Opekiska Lock and Dam | 6.0 | Monongalia, WV; Monongahela.
FFP Missouri 15, LLC | P-13762 | Morgantown Lock and Dam | 5.0 | Monongalia, WV; Monongahela.
Solia 8 Hydroelectric, LLC | P-13771 | Point Marion Lock and Dam | 5.0 | Fayette, PA; Monongahela.
FFP Missouri 13, LLC | P-13763 | Grays Landing Lock and Dam | 12.0 | Greene, PA; Monongahela.
Solia 5 Hydroelectric, LLC | P-13766 | Maxwell Locks and Dam | 13.0 | Washington, PA; Monongahela.
Solia 4 Hydroelectric, LLC | P-13767 | Monongahela Locks and Dam 4 | 12.0 | Washington, PA; Monongahela.
FFP Missouri 12, LLC | P-13755 | Allegheny Lock and Dam 2 | 17.0 | Allegheny, PA; Allegheny.
FFP Missouri 5, LLC | P-13757 | Emsworth Locks and Dam | 24.0 | Allegheny, PA; Ohio.
FFP Missouri 6, LLC | P-13761 | Emsworth Back Channel Dam | 12.0 | Allegheny, PA; Ohio.
Solia 6 Hydroelectric, LLC | P-13768 | Montgomery Locks and Dam | 42.0 | Beaver, PA; Ohio.
* The combined generator capacity in megawatts.

On December 17, 2015, the Commission issued a Notice of Application Ready for Environmental Analysis, and Soliciting Comments, Recommendations, Preliminary Terms and Conditions, and Preliminary Fishway Prescriptions (REA Notice) and a Scoping Document 2 for each river basin, including the Ohio River projects (P-13757, P-13761, P-13768), the Allegheny River Project (P-13755), and the Monongahela River projects (P-13753, P-13762, P-13771, P-13763, P-13766, and P-13767). Each Scoping Document 2 included a procedural schedule that included preparation of one multi-project Draft and Final Environmental Assessment (EA) for all ten projects.

Based on a review of the comments received in response to the REA notice, Commission staff have determined that the analysis of the proposed licensing action could be expedited for some of the projects with the preparation of three separate EAs; one for the three Ohio River projects, one for the Allegheny River Project, and one for the six Monongahela River projects. Potential cumulative effects for all projects will still be evaluated as described in Scoping Document 2. In addition, whether Final EAs are issued or not will depend on the extent and scope of the comments received on the EAs. Absent the issuance of final EAs, comments on the EAs will be addressed in any license order issued by the Commission.

The applications will be processed according to the following revised procedural schedule. Revisions to the schedule may be made as appropriate.

Milestone | Target date
Issue Ohio River projects EA | May/June 2016.
Comments on Ohio River projects EA due | June/July 2016.
Issue Allegheny River project EA | May/June 2016.
Comments on Allegheny River project EA due | June/July 2016.
Issue Monongahela River projects EA | September 2016.
Comments on Monongahela River projects EA due | October 2016.

Any questions regarding this notice may be directed to Nicholas Ettema at (202) 502-6565, or by email at nicholas.ettema@ferc.gov.

Dated: March 8, 2016.
Nathaniel J. Davis, Sr.,
Deputy Secretary.

[FR Doc. 2016-05653 Filed 3-11-16; 8:45 am]

BILLING CODE 6717-01-P